DEPARTMENT OF TRANSPORTATION

Office of the Secretary

Availability of the Federal Radionavigation Plan

AGENCY: Office of the Assistant Secretary for Transportation Policy, DOT.

ACTION: Availability of the Federal Radionavigation Plan.

SUMMARY: The 1999 edition of the Federal Radionavigation Plan (FRP) has been published and is available for comment. All comments, concerns, and suggestions regarding the current policies and plans in the 1999 FRP will be considered in formulation of the 2001 FRP. The policies in the 1999 FRP include provisions for two additional Global Positioning System (GPS) signals for civil use and focus on transition to GPS based services with recognition of the need to maintain some existing navigation aids. The schedule in the 1999 FRP includes an initial operating capability for the FAA Wide Area Augmentation System at the end of 2001. The FAA's Local Area Augmentation System is planned to begin service at selected airports in 2003. The 1999 FRP also includes a revised schedule for phasing down land-based navigation aids. The phase down of VOR/DMEs, ILSs and MLSs for Category I approaches, and TACAN will begin in 2008. The phase down of ILSs for Category II and III approaches will not begin before 2015. The U.S. will continue operating Loran-C in the short term while the Administration continues to evaluate the long-term need for the system. Maritime radiobeacons not used for differential GPS are expected to be phased out by 2000. Stand-alone aeronautical NDBs will be phased out after 2008. NDBs used as compass locators for ILSs will be phased out when the underlying ILSs are withdrawn.

DATES: Comments must be received by July 31, 2000 for consideration in development of the 2001 FRP.

ADDRESSES: Comments should be forwarded to Chairman, DOT POS/NAV Working Group, Department of Transportation (P-7), Room 10315, 400 Seventh Street, SW., Washington, DC 20590. Email: michael.shaw@ost.dot.gov. In addition to written input, two public meetings will be held to solicit verbal input. Comments received at the public meetings on the policies and plans contained in the 1999 FRP will be considered in formulation of the 2001 FRP. The first meeting is scheduled for March 28 through March 30, 2000, at the Fair Oaks Holiday Inn in Fairfax, VA. See notice of meeting under Transportation Department in Federal Register, 65 FR (6437) 2/9/2000. The second meeting will be held at the end of June, 2000, in San Diego. A Federal Register notice will be issued in advance of the meeting.

FOR FURTHER INFORMATION CONTACT: Michael Shaw, Department of Transportation (P-7), 400 7th Street, SW., Washington, DC, 20590, (202) 366-0353.

SUPPLEMENTARY INFORMATION: Free copies of the 1999 FRP are available from the Volpe National Transportation System Center, Kendall Square, Cambridge, MA 02142. The telephone number there is (617) 494-2908. The 1999 FRP is also on the Internet World Wide Web at http://www.navcen.uscg.mil/frp.

Issued in Washington, DC on February 18, 2000.
Joseph F. Canny,
Deputy Assistant Secretary For Navigation Systems Policy.

[FR Doc. 00-4483 Filed 2-24-00; 8:45 am]

BILLING CODE 4910-62-U